ENVIRONMENTAL PROTECTION AGENCY

40 CFR Part 52

[EPA-R07-OAR-2019-0477; FRL-10002-35-Region 7]

Air Plan Approval; Iowa; Linn County; State Implementation Plan

AGENCY: Environmental Protection Agency (EPA).

ACTION: Proposed rule.

SUMMARY: The Environmental Protection Agency (EPA) is proposing to approve revisions to the Iowa State Implementation Plan (SIP) to include recent changes to the Linn County Code of Ordinances. The revisions include updating definitions and references to the effective dates the Federal rules were approved into the State's SIP, revising methods and procedures for performance test/stack test and continuous monitoring systems, and updating the Linn County permits program. These revisions will not adversely impact air quality and will ensure consistency between the state and federally approved rules.

DATES: Comments must be received on or before December 26, 2019.

ADDRESSES: You may send comments, identified by Docket ID No. EPA-R07-OAR-2019-0477 to https://www.regulations.gov. Follow the online instructions for submitting comments.

Instructions: All submissions received must include the Docket ID No. for this rulemaking. Comments received will be posted without change to https://www.regulations.gov/, including any personal information provided. For detailed instructions on sending comments and additional information on the rulemaking process, see the “Written Comments” heading of the SUPPLEMENTARY INFORMATION section of this document.

FOR FURTHER INFORMATION CONTACT: Stephanie Doolan, Environmental Protection Agency, Region 7 Office, Air Quality Planning Branch, 11201 Renner Boulevard, Lenexa, Kansas 66219; telephone number (913) 551-7719; email address doolan.stephanie@epa.gov.

SUPPLEMENTARY INFORMATION: Throughout this document “we,” “us,” and “our” refer to the EPA.

Table of Contents

I. Written Comments

II. What is being addressed in this document?

III. What SIP revisions are being proposed by the EPA?

IV. Have the requirements for approval of a SIP been met?

V. What actions are proposed?

VI. Incorporation by Reference

VII. Statutory and Executive Order Reviews

I. Written Comments

Submit your comments, identified by Docket ID No. EPA-R07-OAR-2019-0477 at https://www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

II. What is being addressed in this document?

The EPA is proposing to approve a submission from the State of Iowa to revise its SIP to incorporate recent updates to Chapter 10 of Linn County's Code of Regulation pertaining to air quality. The Clean Air Act (CAA) allows authorized states to delegate portions of the Act's implementation and enforcement to local governments such as Linn County. The revisions to the Iowa SIP incorporate Linn County's updated definitions and references to the effective dates of Federal rules approved into the State's SIP, renumbering, revising methods and procedures for performance test/stack test and continuous monitoring systems, and revising the public notice and participation requirements to allow permit modifications to be published online rather than in area newspapers which is consistent with recent revisions to Iowa's SIP (83 FR 191, October 2, 2018). Linn County also added provisions to codify its existing policy and procedures for appealing permits which is proposed for approval into the Iowa SIP.

The EPA is not acting on portions of Linn County Chapter 10-58, Permits for New and Existing Stationary Sources, and Chapter 10-59, Permit Fees, that pertain to Prevention of Significant Deterioration (PSD) regulations because Iowa has not delegated the PSD program authority to Linn County. The EPA is also not acting on the revisions to Chapter 10-67, Excess Emissions at this time.

III. What SIP revisions are being proposed by the EPA?

The EPA is proposing approval of the revisions to the Iowa SIP to incorporate revisions to Chapter 10 of the Linn County Code of Ordinances listed below. If a subchapter is not listed below, the only change is its number. A Technical Support Document (TSD) with a detailed description of the proposed revisions and the rationale for approval has been prepared by the EPA and is provided in the docket for this proposed action.

Linn County subchapters have been renumbered and in some cases renamed. The TSD, included in the docket, provides a cross-reference to the former subchapter number and/or name. Renumbering and renaming has no impact on air quality thus EPA proposes to approve these revisions into the Iowa SIP.

Chapter 10-54, Purpose and Ambient Air Quality Standards. The ordinance revisions update the effective dates and remove a reference to new source permitting provisions in Chapter 10-58. The ordinance revisions are administrative updates that do not negatively impact air quality and ensure greater consistency with the Iowa regulations.

Chapter 10-55, Definitions. The definitions for “EPA reference method” and “Volatile Organic Compound” have been revised to reference the most recent Federal rule approved in the Iowa SIP, which is amended through August 30, 2016. These definitions are consistent with the state and Federal rules. As such, the EPA proposes to approve them into the Iowa SIP.

Chapter 10-57, Title V Permits. This chapter was revised to exclude “and Voluntary” from its title and to eliminate former paragraph 2, Voluntary Operating Permits. Since the provision for voluntary operating permits is removed from the Linn County Code of Ordinances EPA concurs with its removal from the SIP. There are no impacts to air quality from these revisions.

Chapter 10-58, Permits for New and Existing Stationary Sources. The revisions to Chapter 10-58 include provisions in paragraph (b)(2)(h), Authorization to install permit applications, the requirement to submit an application for a case-by-case Maximum Achievable Control Technology (MACT) determination, revisions to public notice and participation requirements, and exemptions regarding fuel burning equipment. The EPA proposes to approve the provisions of Chapter 10-58 (b)(2)(h) allowing for a case-by-case MACT determination because the definitions upon which this paragraph relies for “MACT” and “MACT floor” are equivalent to the definitions in Iowa Code that EPA has already approved into the SIP. The EPA also proposes to approve the revisions to paragraphs (K)(1) and (2) regarding exemptions for fuel-burning equipment because these local air quality rules are the same or more stringent that the corresponding Iowa code.

Linn County ordinances have been revised to be consistent with revisions made by the State to address public participation requirements for the PSD program to reflect updates to the Federal regulations, at 40 CFR part 51, subpart I, published October 18, 2016. Consistent with the Iowa SIP revision approved by EPA on October 2, 2018 (83 FR 191), the Linn County code revision removes the requirements for advertisement in a newspaper of general circulation in each region in which the proposed source will be constructed, and provides for posting of the public comment period on a website identified by the county. The electronic notice shall be available for the duration of the public comment period and include the notice of public comment, the draft permit(s), information on how to access the administrative record for the draft permit(s), and how to request or attend a public hearing on the draft permit(s). Because this Linn County code revision is consistent with the EPA's previous SIP approval, for the same reasons stated in the previous approval, the EPA proposes to approve it into the Iowa SIP.

Chapter 10-59, Permit Fees. Based on an email from Iowa Department of Natural Resources (IDNR) to the EPA dated July 9, 2018, which is provided in the docket, it requests removal of fees associated with PSD permit applications and all references to fees in the Linn County SIP submittal. Thus, the EPA is not proposing to approve portions of the Linn County ordinance revisions that reference PSD permitting fees.

Chapter 10-61, Emissions from Fuel-Burning Equipment. The revisions to the ordinance include a corrected reference to Chapter 10-62, and a revision of a paragraph number. The EPA proposes to approve these minor editorial revisions into the SIP because there is no adverse impact to air quality.

Chapter 10-62, Emissions Standards. Revisions to the chapter include updated references to dates of corresponding Federal rule updates, the addition of the word “dry” to “standard cubic foot of exhaust gas,” removal of specific sources from New Source Performance Standards (NSPS), addition of Nitric Acid Plants to NSPS regulation, removal of beryllium sources and Arsenic Glass Manufacturing Plants from regulation under National Emission Standards for Hazardous Air Pollutants (NESHAPs), and removal of a number of major sources of Hazardous Air Pollutants (HAPs) from its codes. The EPA proposes to approve the removal of the source types deleted from Linn County code because there are no regulated source types of these HAPs or processes currently in the state, nor are any anticipated to be permitted or contructed. Regarding the addition of the regulations for Nitric Acid Plants, the EPA proposes to approve these changes into Iowa's SIP because the Linn County code is consistent and at least as stringent as Federal and state regulations. The EPA will not act on revisions to Linn County code paragraphs (b), NSPS, (c), Emission Standards for Hazardous Air Pollutants, and (d), Emission Standards for Hazardous Air Pollutants for Source Categories, because these regulations are approved as Iowa delegations.

Chapter 10-63, Open Burning. The Linn County code includes a clarification of the amount of time open burning is authorized, eliminating the 30-day minimum. The EPA proposes to approve this revision into the Iowa SIP because this clarification does not pose a negative impact to air quality.

Chapter 10-65, Sulfur Compounds. Linn County revised the numbering of the first paragraph to “(a).” The EPA proposes to approve this minor editorial change into the Iowa SIP.

Chapter 10-67, Excess Emissions. The EPA does not intend to approve the revisions to this chapter in this action.

Chapter 10-69, Circumvention. The only revision in this subchapter is the renumbering of the first paragraph. Thus, the EPA proposes to approve this editorial revision into the Iowa SIP.

Chapter 10-70, Testing and Sampling of New and Existing Equipment. Linn County revised its references to the most recent Federal rule approved in the Iowa SIP, which is amended through August 30, 2016. The EPA proposes to approve these updated references into the Iowa SIP. The EPA does not propose to approve paragraph (k), Continuous Emission Monitoring Under the Acid Rain Program, because it has not previously been approved into the Iowa SIP.

Chapter 10-74, Prevention of Air Pollution Emergency Episodes. Revisions to this subchapter consist of editorial changes and revisions to the level of ozone triggering an alert. EPA proposes to approve these revisions into the Iowa SIP because they do not negatively impact air quality.

Chapter 10-75, Enforcement. The only revision to the Linn County code is renumbering the first paragraph to “a.” Thus, the EPA proposes to approve this minor change into the Iowa SIP.

Chapter 10-76, Sealing. The only revision to the Linn County code is renumbering the first paragraph to “a.” Thus, the EPA proposes to approve this minor change into the Iowa SIP.

In addition to the ordinance revisions listed above, the state also requested the EPA approve the definitions of “MACT” and “MACT floor” into its SIP. These definitions were initially submitted by Iowa to the EPA on August 30, 2012, but were inadvertently omitted from previous Linn County SIP revisions. The definitions are identical to or more stringent than the parallel definitions in the Iowa Administrative Code that the EPA has previously approved. Thus, the EPA proposes approval of these definitions into the SIP for greater consistency between the state and local regulations.

IV. Have the requirements for approval of a SIP been met?

The submission met the public notice requirements for SIP submissions in accordance with 40 CFR 51.102. Linn County held a public comment period from April 24, 2018, to May 23, 2018. No comments were received. The Linn County Board of Supervisors adopted the revisions into its air quality ordinance on May 30, 2018. The effective date was June 5, 2018. The submission also satisfies the completeness criteria of 40 CFR part 51, appendix V. In addition, these revisions meet the substantive SIP requirements of the CAA, including section 110 and implementing regulations. These revisions are also consistent with applicable EPA requirements of Title V of the CAA and 40 CFR part 70.

V. What actions are proposed?

The EPA is proposing to approve revisions to the Iowa SIP to incorporate the revisions to Chapter 10 of the Linn County Code of Ordinances. The proposed revisions clarify rules, make revisions and corrections, and rescind rules no longer relevant to the air program. The EPA has determined that approval of these revisions will not adversely impact air quality and will ensure consistency between the local, state and federally-approved rules, and ensure Federal enforceability of the state's revised air program rules.

VI. Incorporation by Reference

In this document, the EPA is proposing to include regulatory text in an EPA final rule that includes incorporation by reference. In accordance with requirements of 1 CFR 51.5, the EPA is proposing to incorporate by reference the Iowa Regulations described in the proposed amendments to 40 CFR part 52 set forth below. The EPA has made, and will continue to make, these materials generally available through www.regulations.gov and at the EPA Region 7 Office (please contact the person identified in the FOR FURTHER INFORMATION CONTACT section of this preamble for more information).

VII. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects

Environmental protection, Air pollution control, Incorporation by reference, Intergovernmental relations, Particulate matter, Reporting and recordkeeping requirements, Volatile organic compounds.

Dated: November 15, 2019.
James Gulliford,
Regional Administrator, Region 7.

For the reasons stated in the preamble, the EPA proposes to amend 40 CFR part 52 as set forth below:

PART 52—APPROVAL AND PROMULGATION OF IMPLEMENTATION PLANS

1. The authority citation for part 52 continues to read as follows:

Authority: 42 U.S.C. 7401 et seq.

Subpart Q—Iowa

2. In § 52.820, the table in paragraph (c) is amended by revising the entry “Chapter 10” to read as follows:

§ 52.820 Identification of plan.

* * * * *

(c) * * *

EPA-Approved Iowa Regulations
Iowa citation | Title | State effective date | EPA approval date | Explanation
Iowa Department of Natural Resources Environmental Protection Commission [567]
* * * * * * *
Linn County
Chapter 10 | Linn County Air Quality Ordinance, Chapter 10 | 6/5/2018 | [Date of publication of the final rule in the Federal Register], [Federal Register citation of the final rule] | The following definitions are not SIP-approved in Chapter 10-55; Anaerobic lagoon, Biomass, Chemical processing plants (ethanol production facilities that produce ethanol by natural fermentation included in NAICS code 325193 or 312140 are not included in this definition); Federally Enforceable; Greenhouse gases;
|  |  |  | The following sections are not SIP approved: 10-57(a), Title V Permits; 10-59(c), Fees Associated with PSD Applications; 10-61, Emissions From Fuel-Burning Equipment, (c) Exemptions for Residential Heaters Burning Solid Fuels; 10-61, Emissions from Fuel-Burning Equipment, (d) Nuisance Conditions for Fuel Burning Equipment; 10-62, Emission Standards, (b) NSPS; 10-62(c), Emission Standards for HAPs; 10-62(d), Emission Standards for HAPs for Source Categories; 10-64, Emission of Objectionable Odors; 10-70, Testing and Sampling of New and Existing Equipment, (k) Continuous Emissions Monitoring from Acid Rain Program; and 10-77, Penalty.
* * * * * * *

* * * * *

[FR Doc. 2019-25265 Filed 11-22-19; 8:45 am]

BILLING CODE 6560-50-P